NATIONAL AERONAUTICS AND SPACE ADMINISTRATION

[NASA Document Number: 26-007]

Name of Information Collection: Personal Identity Validation for Routine and Intermittent Access to NASA Facilities, Sites, and Information Systems

AGENCY: National Aeronautics and Space Administration (NASA).

ACTION: Renewal of information collection.

SUMMARY: NASA, as part of its continuing effort to reduce paperwork and respondent burden, under the Paperwork Reduction Act, invites the general public and other Federal agencies to take this opportunity to comment on proposed and/or continuing information collections.

DATES: Comments are due by February 27, 2026.

ADDRESSES: Written comments and recommendations for this information collection should be sent within 30 days of publication of this notice to www.reginfo.gov/public/do/PRAMain. Find this particular information collection by selecting “Currently under Review—Open for Public Comments”.

FOR FURTHER INFORMATION CONTACT: Requests for additional information or copies of the information collection instrument(s) and instructions should be directed to NASA PRA Clearance Officer, Stayce Hoult, NASA Headquarters, 300 E Street SW, JC0000, Washington, DC 20546, phone 256-714-8575, or email stayce.d.hoult@nasa.gov or hq-ocio-pra-program@mail.nasa.gov.

SUPPLEMENTARY INFORMATION:

I. Abstract

Homeland Security Presidential Directive 12 (HSPD-12) established a mandatory requirement for a Government-wide identity verification standard. In compliance with HSPD-12 and the National Institute of Standards and Technology (NIST) Federal Information Processing Standard (FIPS) 201: Personal Identity Verification of Federal Employees and Contractors, and OMB Policy memorandum M-05-24 Implementation of Homeland Security Presidential Directive 12, NASA must collect information from members of the public to: (1) validate identity and (2) issue secure and reliable federal credentials to enable access to NASA facilities/sites and NASA information systems. Information collected is consistent with background investigation data to include but not limited to name, date of birth, citizenship, social security number (SSN), address, employment history, biometric identifiers (e.g. fingerprints), signature, digital photograph. NASA collects information from U.S. Citizens and U.S. Persons requiring access 30 or more days in a calendar year. NASA also collects information from foreign nationals regardless of their affiliation time.

NASA collects, stores, and secures information from individuals identified above in the NASA Identity Management and Account Exchange System (IdMAX) in a manner consistent with the Constitution and applicable laws, including the Privacy Act (5 U.S.C. 552a.). Information is collected via a combination of electronic and paper processes and stored in the NASA IdMAX.

NASA is committed to effectively performing the Agency's communication function in accordance with the Space Act Section 203 (a)(3) to “provide for the widest practicable and appropriate dissemination of information concerning its activities and the results thereof,” and to enhance public understanding of, and participation in, the nation's aeronautical and space program in accordance with the NASA Strategic Plan.

II. Methods of Collection

NASA collects this information electronically (90%) and on paper (10%).

III. Data

Title: Personal Identity Validation for Routine and Intermittent Access to NASA Facilities, Sites, and Information Systems.

OMB Number: 2700-0158.

Type of review: Renewal of information collection.

Affected public: Individuals.

Estimated annual number of activities: 52,000.

Estimated number of respondents per activity: 1.

Annual responses: 52,000.

Estimated time per response: 10 minutes.

Estimated total annual burden hours: 8,667 hours.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Stayce Hoult,
PRA Clearance Officer, National Aeronautics and Space Administration

[FR Doc. 2026-01645 Filed 1-27-26; 8:45 am]

BILLING CODE 7510-13-P